COMMISSION ON CIVIL RIGHTS

Sunshine Act Notice

AGENCY: United States Commission on Civil Rights.

ACTION: Notice of meeting.

Commission Meeting; U.S. Commission on Civil Rights; Friday, May 11, 2007; 624 Ninth Street, NW., Rm. 540, Washington, DC 20425; 9:30 a.m.

Meeting Agenda

I. Approval of Agenda.

II. Approval of Minutes of April 13, Meeting.

III. Announcements.

IV. Staff Director's Report.

V. State Advisory Committee Issues.

• Virginia SAC.

• Michigan SAC.

VI. Future Agenda Items.

VII. Adjourn.

Briefing Agenda

Title IX Athletics: Accommodating Interest and Abilities.

• Introductory Remarks by Chairman.

• Speakers' Presentation.

• Questions by Commissioners and Staff Director.

Contact Person for Further Information: Manuel Alba, Press and Communications, (202) 376-8582.

Dated: May 1, 2007.
David Blackwood,
General Counsel.

[FR Doc. 07-2208 Filed 5-1-07; 2:25 pm]

BILLING CODE 6335-01-P